DEPARTMENT OF STATE

[Public Notice 4608]

Renewal of Defense Trade Advisory Group Charter

AGENCY: Department of State.

ACTION: Notice.

DATES: March 25, 2004.

The Charter of the Defense Trade Advisory Group (DTAG) is being renewed for a two-year period. The membership of this advisory committee consists of private sector defense trade specialists appointed by the Assistant Secretary of State for Political-Military Affairs who advise the Department on policies, regulations, and technical issues affecting defense trade.

FOR FURTHER INFORMATION CONTACT: Mary F. Sweeney, DTAG Secretariat, U.S. Department of State, Office of Defense Trade Controls Management (PM/DTCM), Room 1200, SA-1, Washington, DC 20522-0112, (202) 663-2865, FAX (202) 663-261-8199.

Dated: March 18, 2004.
Michael T. Dixon,
Executive Secretary, Defense Trade Advisory Group, Department of State.

[FR Doc. 04-6716 Filed 3-24-04; 8:45 am]

BILLING CODE 4710-25-U